DEPARTMENT OF TRANSPORTATION

Federal Aviation Administration

Agency Information Collection Activities: Requests for Comments; Clearance of Renewed Approval of Information Collection: Helicopter Air Ambulance, Commercial Helicopter, and Part 91 Helicopter Operations

AGENCY: Federal Aviation Administration (FAA), DOT.

ACTION: Notice and request for comments.

SUMMARY: In accordance with the Paperwork Reduction Act of 1995, FAA invites public comments about our intention to request the Office of Management and Budget (OMB) approval to renew a previously approved information collection. On February 21, 2014, the FAA published a final rule entitled, “Helicopter Air Start Printed Page 58673 Ambulance, Commercial Helicopter, and part 91 Helicopter Operations”, to address helicopter air ambulance operations and all commercial helicopter operations conducted under part 135. The FAA also established new weather minimums for helicopters operating under part 91 in Class G airspace.

DATES: Written comments should be submitted by February 13, 2017.

ADDRESSES: Send comments to the FAA at the following address: Ronda Thompson, Room 441, Federal Aviation Administration, ASP-110, 950 L'Enfant Plaza SW., Washington, DC 20024.

FOR FURTHER INFORMATION CONTACT: Ronda Thompson by email at: Ronda.Thompson@faa.gov.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0756.

Title: Helicopter Air Ambulance, Commercial Helicopter, and Part 91 Helicopter Operations.

Form Numbers: None.

Type of Review: Renewal of an information collection.

Background: The final rule, “Helicopter Air Start Printed Page 58673 Ambulance, Commercial Helicopter, and part 91 Helicopter Operations”, addressed helicopter air ambulance operations and all commercial helicopter operations conducted under part 135. The FAA also established new weather minimums for helicopters operating under part 91 in Class G airspace. The final rule also added § 135.613 to Title 14, Code of Federal Regulations. Section 135.613, Approach/departure IFR transitions, describes the required weather minimums to transition into and out of the IFR environment, aiding in the transition from the minimum descent altitude on an instrument approach procedure, to the point of intended landing.

Respondents: Approximately 1,791 operators.

Frequency: Information is collected on occasion.

Estimated Average Burden per Response: 81 hours.

Estimated Total Annual Burden: 145,404 hours.

Issued in Washington, DC, on December 8, 2016.
Ronda L. Thompson,
FAA Information Collection Clearance Officer, Performance, Policy, and Records Management Branch, ASP-110.

[FR Doc. 2016-29996 Filed 12-13-16; 8:45 am]

BILLING CODE 4910-13-P